FEDERAL MARITIME COMMISSION

Ocean Transportation Intermediary License; Reissuances

Notice is hereby given that the following Ocean Transportation Intermediary licenses have been reissued by the Federal Maritime Commission pursuant to section 19 of the Shipping Act of 1984, as amended by OSRA 1998 (46 U.S.C. app. 1718) and the regulations of the Commission pertaining to the licensing of Ocean Transportation Intermediaries, 46 CFR part 515.

License No. | Name/address | Date reissued
2363F | Cargoza Forwarding Corporation, 2801 NW. 74th Avenue, Suite 202, Miami, FL 33166 | Sept. 13, 2000.
4168F | Continental Express International, Inc., 7506 SW. 26th Court, Davie, FL 33314 | Sept. 17, 2000.

Sandra L. Kusumoto,
Director, Bureau of Consumer Complaints and Licensing.

[FR Doc. 00-29266 Filed 11-14-00; 8:45 am]

BILLING CODE 6730-01-PM